DEPARTMENT OF COMMERCE

National Oceanic and Atmospheric Administration

RIN 0648-XA581

Fisheries Off West Coast States and in the Western Pacific; Pacific Coast Groundfish Fishery; Application for an Exempted Fishing Permit

AGENCY: National Marine Fisheries Service (NMFS), National Oceanic and Atmospheric Administration (NOAA), Commerce.

ACTION: Notice; receipt of EFP application; request for comments.

SUMMARY: NMFS announces the receipt of an exempted fishing permit (EFP) application, and is considering issuance of EFPs for vessels participating in the EFP activities. The EFPs are necessary to allow activities that are otherwise prohibited by Federal regulations. The EFPs will be effective no earlier than August 10, 2011, and would expire one year after date of issuance, but could be terminated earlier under terms and conditions of the EFPs and other applicable laws.

DATES: Comments must be received no later than 5 p.m., local time on August 10, 2011.

ADDRESSES: You may submit comments, identified by 0648-XA581, by any one of the following methods:

• Fax: 206-526-6736, Attn: Kevin Duffy.

• Mail: Barry A. Thom, Acting Administrator, Northwest Region, NMFS, 7600 Sand Point Way, NE., Seattle, WA 98115-0070, Attn: Kevin Duffy.

FOR FURTHER INFORMATION CONTACT: To request a copy of the EFP application, contact Kevin Duffy (Northwest Region, NMFS), phone: 206-526-4743, fax: 206-526-6736.

SUPPLEMENTARY INFORMATION: This action is authorized by the Magnuson-Stevens Fishery Conservation and Management Act provisions at 50 CFR 600.745, which states that EFPs may be used to authorize fishing activities that would otherwise be prohibited. NMFS received a request for a permit from the Environmental Defense Fund. The primary purpose of the EFP is to conduct gear trials using bottom trawl fishing gear fitted with excluders in order to test reduced bycatch of Pacific halibut while participating in the Shorebased Individual Fishing Quota fishery for groundfish. The EFP would exempt vessels fishing in the Shorebased Individual Fishing Quota fishery and participating in the EFP project from regulations that require the use of a two-seamed bottom trawl net in the area shoreward of the trawl Rockfish Conservation Area. All other regulations applicable to vessels in the Shorebased Individual Fishing Quota fishery would remain in place. The EFP would allow limited testing, during fishing activities, of an excluder device on a four-seamed bottom trawl net in order to compare bycatch rates of Pacific halibut with bycatch rates from legal bottom trawl gears fitted with similar excluder devices.

Authority: 16 U.S.C. 1801 et seq.

Dated: July 21, 2011.
Emily H. Menashes,
Acting Director, Office of Sustainable Fisheries, National Marine Fisheries Service.

[FR Doc. 2011-18883 Filed 7-25-11; 8:45 am]

BILLING CODE 3510-22-P